INTERNATIONAL TRADE COMMISSION

[Investigation Nos. 701-TA-703 and 731-TA-1661-1663 (Preliminary)]

Glass Wine Bottles From Chile, China, and Mexico; Correction Notice of Determinations

AGENCY: International Trade Commission.

ACTION: Notice; correction.

SUMMARY: Correction is made to the publication number.

SUPPLEMENTARY INFORMATION:

Correction

In the Federal Register of February 16, 2024 (89 FR 12380) in FR Doc. 2024-03227, on page 12381, in the fourth column, the publication number should be USITC Publication 5493 (February 2024).

Issued: February 26, 2024.
Sharon Bellamy,
Supervisory Hearings and Information Officer.

[FR Doc. 2024-04310 Filed 2-29-24; 8:45 am]

BILLING CODE 7020-02-P